DEPARTMENT OF ENERGY

Federal Energy Regulatory Commission

[Docket No. EL17-76-000]

Notice of Complaint: East Texas Electric Cooperative, Inc. v. Public Service Company of Oklahoma, Southwestern Electric Power Company, AEP Oklahoma Transmission Company, AEP Southwestern Transmission Company

Take notice that on June 5, 2017, pursuant to sections 206, 306, and 309 of the Federal Power Act, 16 U.S.C. 824e, 825e, and 825h and Rules 206 and 212 of the Federal Energy Regulatory Commission's (Commission) Rules of Practice and Procedure, 18 CFR 385.206 and 385.212 (2016), East Texas Electric Cooperative, Inc. (Complainant) filed a formal complaint against Public Service Company of Oklahoma, Southwestern Electric Power Company, AEP Oklahoma Transmission Company and AEP Southwestern Transmission Company, (Respondents or AEP West Companies) alleging that, the 10.70 percent base return on common equity currently included in the formula transmission rates of the AEP West Companies is unjust and unreasonable and should be reduced, all as more fully explained in the complaint.

The Complainant states that ETEC certifies that copies of the complaint were served in accordance with Rule 206(c).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE., Washington, DC 20426.

This filing is accessible on-line at http://www.ferc.gov, using the eLibrary link and is available for electronic review in the Commission's Public Reference Room in Washington, DC. There is an eSubscription link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on June 26, 2017.

Dated: June 6, 2017.
Kimberly D. Bose,
Secretary.

[FR Doc. 2017-12051 Filed 6-9-17; 8:45 am]

BILLING CODE 6717-01-P